DEPARTMENT OF THE TREASURY

Submission for OMB Review; Comment Request

December 13, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Department of the Treasury Clearance Officer, Department of the Treasury, Room 11000, 1750 Pennsylvania Avenue, NW., Washington, DC 20220.

DATES: Written comments should be received on or before January 19, 2006 to be assured of consideration.

Alcohol and Tobacco Tax and Trade Bureau (TTB)

OMB Number: 1513-0051.

Type of Review: Extension.

Title Application for an Alcohol Fuel Producer under 26 U.S.C. 5181.

Form: TTB form F 5110.74.

Description: This form is used by persons who wish to produce and receive spirits for the production of alcohol fuels as a business or for their own use and for State and local registration where required. The form describes the person(s) applying for the permit, location of the proposed operation, type of material used for production and amount of spirits to be produced.

Respondents: Business or other for-profit.

Estimated Total Burden Hours: 394 hour.

OMB Number: 1513-0111.

Type of Review: Extension.

Title COLAs Online Access Request.

Form: TTB form F 5013.2.

Description: The information on this form will be used by TTB to authenticate end users on the system to electronically file Certificates of Label Approval (COLAs). The system will authenticate end users by comparing information submitted to records in multiple databases.

Respondents: Business or other for-profit.

Estimated Total Burden Hours: 344 hour.

Clearance Officer: Frank Foote (202) 927-9347, Alcohol and Tobacco Tax and Trade Bureau, Room 200 East, 1310 G. Street, NW., Washington, DC 20005.

OMB Reviewer: Alexander T. Hunt (202) 395-7316, Office of Management and Budget Room 10235, New Executive Office Building, Washington, DC 20503.

Michael A. Robinson,
Treasury PRA Clearance Officer.

[FR Doc. E5-7513 Filed 12-19-05; 8:45 am]

BILLING CODE 4810-31-P